DEPARTMENT OF HEALTH AND HUMAN SERVICES

Announcement of the Second Meeting of the 2025 Dietary Guidelines Advisory Committee

AGENCY: U.S. Department of Health and Human Services (HHS); Office of the Assistant Secretary for Health (OASH); and U.S. Department of Agriculture (USDA), Food, Nutrition, and Consumer Services (FNCS).

ACTION: Notice.

SUMMARY: The Departments of Health and Human Services and Agriculture announce the second meeting of the 2025 Dietary Guidelines Advisory Committee (Committee). This meeting will be open to the public virtually.

DATES: The second meeting of the 2025 Dietary Guidelines Advisory Committee will be held on May 10, 2023, 9 a.m. to 3:30 p.m. ET.

ADDRESSES: The meeting will be accessible online via livestream and recorded for later viewing. Registrants will receive the livestream information prior to the meeting.

SUPPLEMENTARY INFORMATION:

Authority and Purpose: Under Section 301 of Public Law 101-445 (7 U.S.C. 5341, the National Nutrition Monitoring and Related Research Act of 1990, Title III), the Secretaries of HHS and USDA are directed to publish the Dietary Guidelines for Americans jointly at least every five years. See 88 FR 3423, January 19, 2023, for notice of the first meeting of the 2025 Dietary Guidelines Advisory Committee, the complete Authority and Purpose, and the Committee's Task. The 2025 Dietary Guidelines Advisory Committee is formed and governed under the provisions of the Federal Advisory Committee Act (FACA), Public Law 92-463, as amended (5 U.S.C., App).

Purpose of the Meeting: The Committee will meet to discuss their prioritization of the scientific questions proposed by the Departments (see www.DietaryGuidelines.gov) and share draft plans for their review of the scientific evidence. In accordance with FACA, deliberations of the Committee will occur in a public forum.

Meeting Agendas: A detailed agenda will be announced in advance of the meeting at www.DietaryGuidelines.gov. The agenda will include presentations by each subcommittee and deliberation by the full Committee regarding the prioritization of scientific questions and initial draft protocol development and discussion of plans for future Committee work.

Public Comment: Public comments to the Committee opened on January 19, 2023 and will remain open throughout the Committee's deliberations. Comments may be submitted at https://www.regulations.gov/document/HHS-OASH-2022-0021-0001.

Meeting Registration: This Committee meeting is open to the public. The meeting will be accessible online via livestream and recorded for later viewing. Registration is required for the livestream. To register, go to www.DietaryGuidelines.gov and click on the link for “Meeting Registration.”

Closed captioning will be available to all participants. Individuals who need accommodations should contact Kara Beckman (Kara.Beckman@hhs.gov). Requests should be made at least five business days in advance of the meeting.

Meeting materials for each meeting will be accessible at www.DietaryGuidelines.gov. Materials may be requested by email at dietaryguidelines@hhs.gov.

FOR FURTHER INFORMATION CONTACT: Designated Federal Officer, 2025 Dietary Guidelines Advisory Committee, Janet M. de Jesus, MS, RD; HHS/OASH/ODPHP, 1101 Wootton Parkway, Suite 420, Rockville, MD 20852; Phone: 240-453-8266; Email DietaryGuidelines@hhs.gov. Additional information is available on the internet at www.DietaryGuidelines.gov.

Paul Reed,
Deputy Assistant Secretary for Health, Office of Disease Prevention and Health Promotion.

[FR Doc. 2023-08081 Filed 4-14-23; 8:45 am]

BILLING CODE 4150-32-P